DEPARTMENT OF LABOR

Employment and Training Administration

Workforce Investment Act; Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) (29 U.S.C. 2911(h)(4), notice is hereby given of the next meeting of the Native American Employment and Training Council as constituted under WIA.

Time and Date: The meeting will begin at 9 a.m. e.d.t. (eastern daylight time) on Thursday, July 14, 2005, and continue until 5 p.m. e.d.t. that day. The period from 3 p.m. to 5 p.m. e.d.t. on July 14 will be reserved for participation and presentation by members of the public. The meeting will reconvene at 9 p.m. e.d.t. on Friday, July 15, 2005, and adjourn at approximately 12 p.m. e.d.t. on that day.

Place: All sessions will be held at the Crowne Plaza Hotel, 1800 Market Street, Philadelphia, Pennsylvania.

Status: The meeting will be open to the public. Persons who need special accommodations should contact Ms. Athena Brown on (202) 693-3737 by July 7, 2005.

Matters to be Considered: The formal agenda will focus on the following topics: (1) Strategic Planning for Economic Development Report; (2) UI Wage Study-Discussion of Preliminary Findings; (3) Follow-up Issues on Technical Assistance; (4) Follow-up on Resolutions; (5) Timeline for Implementation of Common Measures; and (6) Proposed Changes to Section 166 Reporting (NAWIA).

FOR FURTHER INFORMATION CONTACT: Ms. Athena Brown, Chief, Division of Indian and Native American Programs, Office of National Programs, Employment and Training Administration, U.S. Department of Labor, Room C-4311, 200 Constitution Avenue, NW., Washington, D.C. 20210.

Telephone: (202) 693-3737 (VOICE) (this is not a toll-free number) or (202) 693-3841.

Signed at Washington, DC, this 29th day of June, 2005.
Emily Stover DeRocco,
Assistant Secretary, Employment and Training Administration.

[FR Doc. 05-13216 Filed 7-5-05; 8:45 am]

BILLING CODE 4510-30-M